DEPARTMENT OF COMMERCE

International Trade Administration

Allegheny-Singer Research Institute; Notice of Decision on Application for Duty-Free Entry of Scientific Instrument

This decision is made pursuant to section 6(c) of the Educational, Scientific, and Cultural Materials Importation Act of 1966 (Pub. L. 89-651, 80 Stat. 897; 15 CFR part 301). Related records can be viewed between 8:30 a.m. and 5:00 p.m. in Room 4211, U.S. Department of Commerce, 14th and Constitution Avenue, NW., Washington, DC.

Docket Number: 00-013. Applicant: Allegheny-Singer Research Institute, Pittsburgh, PA 15212-4772. Instrument: Robot and Microplate Manipulator, Model Q-Bot. Manufacturer: Genetix Limited, United Kingdom. Intended Use: See notice at 65 FR 26583, May 8, 2000.

Comments: None received. Decision: Approved. No instrument of equivalent scientific value to the foreign instrument, for such purposes as it is intended to be used, is being manufactured in the United States. Reasons: The foreign instrument provides a unique multi-tasking robotic system for the production, gridding and regridding of DNA arrays with: (1) A pneumatic picking head for sampling 3500 colonies per hour, (2) ability to create high density arrays on nylon filters, (3) replication of plates (96 or 384 wells) for distributing clones and (4) picking of both colonies or plaques. The National Institutes of Health advised in its memorandum of May 5, 2000 that (1) these capabilities are pertinent to the applicant's intended purpose and (2) it knows of no domestic instrument or apparatus of equivalent scientific value to the foreign instrument for the applicant's intended use.

We know of no other instrument or apparatus of equivalent scientific value to the foreign instrument which is being manufactured in the United States.

Frank W. Creel,
Director, Statutory Import Programs Staff.

[FR Doc. 00-15525 Filed 6-19-00; 8:45 am]

BILLING CODE 3510-DS-P